DEPARTMENT OF THE INTERIOR

National Park Service

Plan of Operations and Environmental Assessment for the Wilson Well No. 1 by Kindee Oil and Gas Texas, LLC, Padre Island National Seashore, TX

AGENCY: National Park Service, Department of the Interior.

ACTION: Notice of Availability of a Plan of Operations and Environmental Assessment for the Wilson Well No. 1 by Kindee Oil and Gas Texas, LLC, Padre Island National Seashore.

SUMMARY: Notice is hereby given in accordance with § 9.52(b) of Title 36 of the Code of Federal Regulations, part 9, subpart B, of a Plan of Operations submitted by Kindee Oil and Gas Texas, LLC, for the Wilson Well No. 1 in Padre Island National Seashore, Kenedy County, Texas. Additionally, the NPS has prepared an Environmental Assessment for this proposal.

DATES: The above documents are available for pubic review and comment for September 25, 2006.

ADDRESSES: The Plan of Operations and Environmental Assessment are available for public review and comment in the Office of the Superintendent, Colin Campbell, Padre Island National Seashore, 20301 Park Road 22, Corpus Christi, Texas 78480. The documents are also available at the Planning, Environment and Public Comment (PEPC) Web site at http://parkplanning.nps.gov.

FOR FURTHER INFORMATION CONTACT: Mr. Darrell Echols, Chief, Division of Science and Resources Management, Padre Island National Seashore, P.O. Box 181300, Corpus Christi, Texas 78480-1300, Telephone: 361-949-8173, ext. 223, e-mail at Darrell_Echols@nps.gov.

SUPPLEMENTARY INFORMATION: If you wish to comment on the environmental assessment, you may mail comments to the name and address above, hand-deliver them to the street address provided above, or post comments online at http://parkplanning.nps.gov/. This environmental assessment will be on public review for 30 days. Our practice is to make comments, including names, home addresses, home phone numbers, and e-mail addresses of respondents, available for public review. Individual respondents may request that we withhold their names and/or home addresses, etc., but if you wish us to consider withholding this information you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organizations or businesses, and from individuals identifying themselves as representatives of or officials of organizations or businesses, available for public inspection in their entirety.

Dated: July 7, 2006.
Anthony J. Schetzsle,
Acting Director, Intermountain Region.

[FR Doc. E6-14148 Filed 8-24-06; 8:45 am]

BILLING CODE 4312-CD-P